DEPARTMENT OF HEALTH AND HUMAN SERVICES

Centers for Disease Control and Prevention

[Program Announcement Open Season 02060-FY05]

National Cancer Prevention and Control Program; Notice of Availability of Open Season Funds

LOI Deadline: January 28, 2005.

Application Deadline: February 28, 2005.

A. Purpose

The Centers for Disease Control and Prevention (CDC) announces the availability of fiscal year (FY) 2005 funds for an Open Season for the National Cancer Prevention and Control Program (NCPCP) cooperative agreement program previously announced under Program Announcement 02060 (Henceforth referred to as “PA 02060”). This program addresses the “Healthy People 2010” focus area(s) related to cancer.

PA02060 was published in the Federal Register on April 23, 2002, Volume 67, Number 78, pages 19932-19950. Amendment 1 was published May 23, 2002, Amendment 2 was published January 2, 2003, and Amendment 3 was published on January 20, 2004. Applicants may access the amended version of PA 02060, along with this Open Season announcement, on the CDC Web site, Internet address: http://www.cdc.gov. Click on “Funding,” then “Grants and Cooperative Agreements.”

Sections A.-F. of original PA 02060 are superceded by the Sections A.-F. published in this announcement.

The NCPCP will assist States/District of Columbia/Tribes/Territories in developing, implementing, maintaining, enhancing, integrating, and evaluating a cancer program inclusive of cancer surveillance, prevention and early detection programs, and which focuses on eliminating health disparities. The purpose of each of the three programmatic components within the NCPCP follows.

A.1. National Comprehensive Cancer Control Programs (NCCCP)

The NCCCP component supports the planning and implementation of comprehensive cancer control activities. CDC defines comprehensive cancer control as an integrated and coordinated approach to reduce the incidence, morbidity and mortality of cancer through prevention, early detection, treatment, rehabilitation, and palliation.

A.2. National Breast and Cervical Cancer Early Detection Program (NBCCEDP)

The NBCCEDP component supports the development of systems to assure breast and cervical cancer screening for low income, underserved, and uninsured women with special emphasis on reaching those who are geographically or culturally isolated, older, or members of racial/ethnic minorities. Components of the NBCCEDP include program management; screening & diagnostic services, to include case management, tracking and follow-up; data management; quality assurance/quality improvement; evaluation; partnerships; professional development and recruitment, to include public education, outreach and inreach. These components are carried out at the local, State and national levels through collaborative partnerships with State health agencies, community-based organizations, tribal governments, universities, a variety of medical care providers and related agencies and institutions, and the business and voluntary sectors. These partners work together to develop, implement and evaluate strategies to promote breast and cervical cancer prevention and early detection, to increase access to related services and to improve the quality and timeliness of the services.

A.3. National Program of Cancer Registries (NPCR)

The NPCR component supports efforts to establish population-based cancer registries where they do not exist and to improve existing cancer registries.

PA 02060 and applicable amendments, contain information that is specific to the three individual components. Section G “Specific Guidance for NCCCP” addresses the National Comprehensive Cancer Control Program; Section H “Specific Guidance for NCCEDP” addresses the National Breast and Cervical Cancer Early Detection Program; and Section I “Specific Guidance for NPCR” addresses the National Program of Cancer Registries. These component sections include specific guidance regarding:

• Eligibility

• Program Requirements

• Content

• Other Requirements

• Evaluation Criteria

Please refer to these specific component sections in PA 02060, and amendments for information.

Special Guidelines for Technical Assistance

Conference Call: Technical assistance will be available for potential applicants on a conference call that will be held on January 19, 2005, from 3:30 p.m. to 5:30 p.m. (Eastern time). Potential applicants are requested to call in using only one telephone line. The conference can be accessed by calling 1-888-576-9873, and entering the passcode 21028.

The purpose of the conference call is to help potential applicants to:

1. Understand the process for the Open Season Announcement for PA 02060 for the National Cancer Prevention and Control Program;

2. Understand the scope and intent of PA 02060 for the National Cancer Prevention and Control Program;

3. Be familiar with the Public Health Services funding policies and application and review procedures.

Participation in this conference call is not mandatory. At the time of the call, if you have problems accessing the conference call, please call 404-639-7550.

B. Eligible Applicants

Applicants may apply for any or all of the components within this Open Season announcement for which they are eligible and that they are not currently funded for under PA 02060.

B.1. Eligible for NCCCP

Potential applicants that are eligible for components of NCCCP are the health departments of States or their bona fide agents, the Commonwealth of Puerto Rico, the Virgin Islands, the Commonwealth of the Northern Mariana Islands, American Samoa, Guam, the Federated States of Micronesia, the Republic of the Marshall Islands, and Federally recognized Indian Tribal governments and Tribal organizations, urban Indian organizations and inter-tribal consortia (hereafter referred to as Tribes) whose primary purpose is to improve American Indian/Alaska Native health and which represent the Native population in their catchment area, that are not currently funded for NCCCP under PA 02060.

B.2. Eligible for NBCCEP

Potential applicants that are eligible for NBCCEDP are the Virgin Islands, the Commonwealth of the Northern Mariana Islands, the Federated States of Micronesia, the Republic of the Marshall Islands, and Federally recognized Indian Tribal governments and Tribal organizations, urban Indian organizations and inter-tribal consortia (hereafter referred to as Tribes) whose primary purpose is to improve American Indian/Alaska Native health and which represent the Native population in their catchment area, that are not currently funded for NBCCEDP under PA 02060.

B.3. Eligible for NPCR

Potential applicants that are eligible for components of NPCR are the health departments of States or their bona fide agents, the Commonwealth of the Northern Mariana Islands, American Samoa, Guam, the Federated States of Micronesia, the Republic of the Marshall Islands, and academic or nonprofit organizations designated by a State to operate the State's cancer registry, that are not currently funded under PA 02060.

Note: Title 2 of the United States Code section 1611 states that an organization described in section 501(c)(4) of the Internal Revenue Code that engages in lobbying activities is not eligible to receive Federal funds constituting an award, grant or loan.

C. Availability of Funds

Pending availability of FY 2005 funds, approximately $1,850,000 is available in FY 2005 to fund new programs under the Open Season for PA 02060-FY05.

Awards under PA 02060 were made for a Project Period of September 30, 2002 through June 29, 2007. The first funding period was for the period September 30, 2002 through June 29, 2003. The second funding period was for the period June 30, 2003 through June 29, 2004. The third funding period was for the period June 30, 2004 through June 29, 2005. Awards under this Open Season announcement will be for the Period of June 30, 2005 through June 29, 2007, with funding for the period June 30, 2005 through June 29, 2006. Future budget periods will be 12-month periods, and will begin on June 30 of every year and run through June 29 of each following year. These budget periods will occur until the expiration of the project period for PA 02060, which is June 29, 2007.

In Accordance with G.2.d. of PA 2060, Amendment 4, there will be no funding preferences applicable to this funding period.

All new applications will be reviewed through an Objective Review process.

C.1. Component Funding

NCCCP $250,000

NBCCEDP $0 (No Open Season Funds Available for FY05)

NPCR $250,000

NCCCP—Additional Optional Funding available for recipients of NCCCP Implementation Programs as follows:

Colorectal cancer activities $250,000

Ovarian cancer activities $500,000

Prostate cancer activities $500,000

Skin cancer activities $100,000

C.2. Requested Budget Information

Applicants should submit separate budgets for each component (as well as separate budgets if applying for the Additional Optional Funding under NCCCP) in response to this Open Season announcement. Each detailed budget and narrative justification should support the activities for the funding period specified in this Program Announcement for FY 2005 support.

Applications should follow the guidance provided under each program component in PA 02060 and applicable amendments, with respect to the development and submission of an itemized budget and justification.

C.3. Use of Funds

For specific “Use of Funds” information, refer to Sections G, H, and I of PA 02060 and amendments.

Cooperative agreement funds may be used to support personnel and to purchase equipment, supplies, and services directly related to project activities and consistent with the scope of the cooperative agreement.

Funds provided under this program announcement may not be used to:

• Conduct research projects. Guidance regarding CDC's definition of “research” should be reviewed at http://www.cdc.gov/od/ads/opspoll1.htm.

• Supplant State or local funds, to provide inpatient care or treatment, or to support the construction or renovation of facilities.

Applicants are encouraged to identify and leverage mutually beneficial opportunities to interact and integrate with other State health department programs that address related chronic diseases or risk factors. This may include cost sharing to support a shared position such as a Chronic Disease Epidemiologist, Health Communication Specialist, Program Evaluator, or Policy Analyst to work on relevant activities across units/departments within the State health department. Such activities may include, but are not limited to joint planning, joint funding of complementary activities, public health education, collaborative development and implementation of environmental, policy, systems, or community interventions and other cost sharing activities.

C.4. Recipient Financial Participation

For specific “Recipient Financial Participation” information, please refer to Sections G, H, and I of PA 02060 and amendments.

C.5. Direct Assistance

For specific “Direct Assistance” information, please refer to Sections G, H, and I of PA 02060 and amendments.

C.6. Funding Preferences

In accordance with the “Funding Preference” section of the amended PA 02060, no funding preference will be given for this period. For specific “Funding Preference” information, please refer to Sections G, H, and I of PA 02060 and amendments.

C.7. Funding Consideration

For specific “Funding Consideration” information, please refer to Sections G, H, and I of PA 02060 and amendments.

D. Content

D.1. Letter of Intent

One Letter of Intent (LOI) is requested from each applicant applying for any component(s) of this program. The narrative should be no more than one single-spaced page, printed on one side, with one-inch margins, and unreduced font. Your LOI will not be evaluated, but will be used to assist CDC in planning for the objective review for this program and should include the announcement number, the specific component(s) and parts of the component, if applicable, for which funds are being applied, and the name of the principal investigator.

D.2. Application Development

Please refer to Sections G, H, and I of PA 02060 and amendments to use the information in the Program Requirements, Other Requirements, and Evaluation Criteria sections to develop the application content. Your application will be evaluated using the criteria listed, so it is important to follow them in laying out your application.

Applications should follow the guidance below with respect to page limitations for each component. All applications should be printed on one side, with one-inch margins, using unreduced font. All materials must be provided in an unbound, one-sided, 8½ x 11″ print format, suitable for photocopying (i.e., no audiovisual materials, posters, tapes, etc.).

D.3. Page Limitations

For specific “Page Limitations” information, please see Sections G, H, and I of PA 02060 and amendments.

D.4. Application Outline

Applicants may apply for any or all of the components within this program announcement for which they are eligible. Please provide specific “Application Outline” information for each component as outlined in specific Sections G, H, and I of PA 02060 and amendments.

E. Submission and Deadline

E1. Letter of Intent

On or before January 28, 2004, submit the LOI to the National Center for Chronic Disease Prevention and Control.

By mail: Tanya Hicks, Program Analyst, CDC National Center for Chronic Disease Prevention and Health Promotion, 4770 Buford Hwy, NE, MS K-57, Atlanta, GA 30341-3717; or by courier service: Tanya Hicks, Koger Center, 2858 Woodcock Blvd, Davidson Bldg, Room 2081, Chamblee, GA 30341; or by fax: 770-488-3230; or by e-mail: Thicks@cdc.gov.

E.2. Application

Submit the original and two copies of CDC Form 0.1246. Forms are available in the application kit and at the following Internet address: www.cdc.gov/od/pgo/forminfo.htm.

On or before February 28, 2005, submit the original and two copies of the application to: Technical Information Management—PA02060FY05, Procurement and Grants Office, Centers for Disease Control and Prevention, 2920 Brandywine Road, Atlanta, GA 30341-4146.

Applications may not be submitted electronically at this time.

Please reference Program Announcement Number 02060-FY05 National Cancer Prevention and Control Program on the mailing envelope and on the application Standard Form 424, block 11. Please also make sure that block 16 on Standard Form 424 regarding Executive Order 12372 has been completed correctly.

E.3. Deadline

Applications must be received in the CDC Procurement and Grants Office by 4 p.m. Eastern time on the deadline date. If you send your application by the United States Postal Service of commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

CDC will not notify you upon receipt of your application. If you have a question about the receipt of your application, first contact your courier. If you still have a question, contact the PGO-TIM staff at: 770-488-2700. Before calling, please wait two to three days after the application deadline. This will allow time for the applications to be processed and logged.

F. Evaluation Criteria

Each application will be evaluated individually will be reviewed through an Objective Review process.

For specific “Evaluation Criteria” information, please see Sections G, H, and I of PA 02060 and amendments.

G. Where To Obtain Additional Information

This and other CDC announcements can be found on the CDC home page Internet address— http://www.cdc.gov. Click on “Funding” then “Grants and Cooperative Agreements.”

If you have questions after reviewing the contents of all the documents, business management technical assistance in the states may be obtained from: Annie Camacho or Glynnis Taylor, Grants Management Specialist, CDC Procurement and Grants Office, 2920 Brandywine Road, Atlanta, GA 30341-4146, Telephone number: Annie Camacho: 770-488-2735, Glynnis Taylor: 770-488-2752, E-mail address: Annie Camacho: atc4@cdc.gov, Glynnis Taylor: gld1@cdc.gov.

Business management technical assistance in the territories may be obtained from: Vincent Falzone, Grants Management Specialist, CDC Procurement and Grants Office, 2920 Brandywine Road, Atlanta, GA 30341-4146, Telephone number: 770-488-2763, E-mail address: vcf6@cdc.gov.

For program technical assistance contact:

NCCCP: Leslie S. Given, M.P.A., Public Health Advisor, NCCCP, Program Services Branch, Division of Cancer Prevention and Control, National Center for Chronic Disease Prevention and Health Promotion, Centers for Disease Control and Prevention, 4770 Buford Hwy., NE (MS K-57), Atlanta, GA 30341-3717, Telephone number: 770-488-3099, E-mail address: llg5@cdc.gov.

NBCCEDP: Susan True, M.Ed., Branch Chief, Program Services Branch, Division of Cancer Prevention and Control, National Center for Chronic Disease Prevention and Health Promotion, Centers for Disease Control and Prevention, 4770 Buford Hwy., NE (MS K-57), Atlanta, GA 30341-3717, Telephone number: 770-488-4880, E-mail address: smt7@cdc.gov.

NPCR: Lois Voelker, Public Health Advisor, Cancer Surveillance Branch, Division of Cancer Prevention and Control, National Center for Chronic Disease Prevention and Health Promotion, Centers for Disease Control and Prevention, 4770 Buford Hwy., NE (MS K-53), Atlanta, GA 30341-3717, Telephone number: 770-488-3095, E-mail address: lvoelker@cdc.gov.

Dated: January 5, 2005.
William P. Nichols,
Acting Director, Procurement and Grants Office, Centers for Disease Control and Prevention.

[FR Doc. 05-488 Filed 1-12-05; 8:45 am]

BILLING CODE 4163-18-P